ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, January 9-11, 2012 on the times and location listed below.

DATES: The schedule of events is as follows:

Monday, January 9, 2012

10:45-11:15 a.m.—Budget Committee

11:15-Noon—Technical Programs Committee

1:30-4 p.m.—Strategic Planning

Tuesday, January 10, 2012

9:00-3:15 p.m.—Ad Hoc Committee Meetings: Closed to Public

3:30-4:30—Ad Hoc Committee on Frontier Issues

Wednesday, January 11, 2012

1:30-3 p.m.—Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, January 11, 2012, the Access Board will consider the following agenda items:

• Approval of the draft November 9, 2011 meeting minutes (vote)

• Budget Committee Report

• Technical Programs Committee Report

• Planning and Evaluation Committee Report

• Ad Hoc Committee Reports:

○ Ad Hoc Committee on Passenger Vessels (vote)

○ Ad Hoc Committee on Medical Diagnostic Equipment; Federal Advisory Committee charter (vote)

• Executive Director's Report

• Public Comment, Open Topics

All meetings are accessible to persons with disabilities. An assistive listening system, computer assisted real-time transcription (CART), and sign language interpreters will be available at the Board meeting and committee meetings. Persons attending Board meetings are requested to refrain from using perfume, cologne, and other fragrances for the comfort of other participants (see http://www.access-board.gov/about/policies/fragrance.htm for more information).

David M. Capozzi,
Executive Director.

[FR Doc. 2011-32359 Filed 12-16-11; 8:45 am]

BILLING CODE 8150-01-P